DEPARTMENT OF LABOR

Mine Safety and Health Administration

Petitions for Modification

The following parties have filed petitions to modify the application of existing safety standards under section 101(c) of the Federal Mine Safety and Health Act of 1977.

1. Elk Run Coal Company, Inc.

[Docket No. M-2001-109-C]

Elk Run Coal Company, Inc., P.O. Box 497, Sylvester, West Virginia 25193 has filed a petition to modify the application of 30 CFR 75.364(b)(2) (weekly examination) to its Black King I North Portal Mine (I.D. No. 46-08553) located in Boone County, West Virginia. The petitioner proposes to establish weekly evaluations at three monitoring stations using hand-held gas detection devices and anemometers. The petitioner states that these monitoring stations will be immediately outby survey station 2915 and designated S-1, at the punch-out designated as S-2, and at the punch-out designated S-3; that the evaluations points will be evaluated weekly by a certified person and the results of the examination will be recorded in the examination books. The petitioner asserts that the proposed alternative method would provide at least the same measure of protection as the existing standard.

2. Apollo Coal Company

[Docket No. M-2001-110-C]

Apollo Coal Company, P.O. Box 503, Staffordsville, Kentucky 41256 has filed a petition to modify the application of 30 CFR 75.503 (permissible electric face equipment; maintenance) and 30 CFR 18.41(f) (plug and receptacle-type connectors) to its Mine #3 (I.D. No. 15-18075) located in Knott County, Kentucky. The petitioner proposes to use permanently installed, spring-loaded locking device on mobile battery-powered machines instead of using padlocks to prevent unintentional loosening of battery plugs from battery receptacles to eliminate the hazards associated with difficult removal of padlocks during emergency situations. The petitioner asserts that application of the existing standard would result in a diminution of safety to the miners and that the proposed alternative method would provide at least the same measure of protection as the existing standard.

3. Straight Fork Mining, Inc.

[Docket No. M-2001-111-C]

Straight Fork Mining, Inc., P.O. Box 249, Stanville, Kentucky 41659 has filed a petition to modify the application of 30 CFR 75.503 (permissible electric face equipment; maintenance) and 30 CFR 18.41(f) (plug and receptacle-type connectors) to its No. 3 Mine (I.D. No. 15-18441) located in Knott County, Kentucky. The petitioner proposes to use permanently installed, spring-loaded locking device on mobile battery-powered machines instead of using padlocks to prevent unintentional loosening of battery plugs from battery receptacles to eliminate the hazards associated with difficult removal of padlocks during emergency situations. The petitioner asserts that the proposed alternative method would provide at least the same measure of protection as the existing standard.

4. Clas Coal Company, Inc.

[Docket No. M-2001-112-C]

Clas Coal Company, Inc., P.O. Box 35, Deane, Kentucky 41812 has filed a petition to modify the application of 30 CFR 75.503 (permissible electric face equipment; maintenance) and 30 CFR 18.41(f) (plug and receptacle-type connectors) to its E-3 Mine (I.D. No. 15-18392) located in Knott County, Kentucky. The petitioner proposes to use permanently installed, spring-loaded locking device on mobile battery-powered machines instead of using padlocks to prevent unintentional loosening of battery plugs from battery receptacles to eliminate the hazards associated with difficult removal of padlocks during emergency situations. The petitioner asserts that application of the existing standard would result in a diminution of safety to the miners and that the proposed alternative method would provide at least the same measure of protection as the existing standard.

5. Centralia Mining

[Docket No. M-2001-113-C]

Centralia Mining, RD #2 Box 665, Shamokin, Pennsylvania 17872 has filed a petition to modify the application of 30 CFR 49.2(b) (mine rescue teams) to its Skidmore Slope (I.D. No. 36-09001) located in Columbia County, Pennsylvania. The petitioner requests a modification of the standard to permit the reduction of two mine rescue teams with five members and one alternate each, to two mine rescue teams of three members with one alternate for either team. The petitioner asserts that the proposed alternative method would provide at least the same measure of protection as the existing standard.

6. Centralia Mining

[Docket No. M-2001-114-C]

Centralia Mining, RD #2 Box 665, Shamokin, Pennsylvania 17872 has filed a petition to modify the application of 30 CFR 75.1100-2(a) (quantity and location of firefighting equipment) to its Skidmore Slope (I.D. No. 36-09001) located in Columbia County, Pennsylvania. The petitioner requests a modification of the standard to permit use of portable fire extinguishers only to replace existing requirements where rock dust, water cars, and other water storage equipped with three, ten quart pails is not practical. The petitioner proposes to use two (2) fire extinguishers near the slope bottom and an additional portable fire extinguisher within 500 feet of the working face for equivalent fire protection for the mine. The petitioner asserts that the proposed alternative method would provide at least the same measure of protection as the existing standard.

7. Centralia Mining

[Docket No. M-2001-115-C]

Centralia Mining, RD #2 Box 665, Shamokin, Pennsylvania 17872 has filed a petition to modify the application of 30 CFR 75.1200(d) and (i) (mine maps) to its Skidmore Slope (I.D. No. 36-09001) located in Columbia County, Pennsylvania. The petitioner proposes to use cross-sections instead of contour lines through the intake slope, at locations of rock tunnel connections between veins, and at 1,000 foot intervals of advance from the intake slope; and to limit the required mapping of the mine workings above and below to those present within 100 feet of the vein being mined except when veins are interconnected to other veins beyond the 100-foot limit through rock tunnels. The petitioner asserts that due to the steep pitch encountered in mining anthracite coal veins, contours provide no useful information and their presence would make portions of the map illegible. The petitioner further asserts that use of cross-sections in lieu of contour lines has been practiced since the late 1800's thereby providing critical information relative to the spacing between veins and proximity to other mine workings which fluctuate considerably. The petitioner asserts that the proposed alternative method would provide at least the same measure of protection as the existing standard.

8. Centralia Mining

[Docket No. M-2001-116-C]

Centralia Mining, RD #2 Box 665, Shamokin, Pennsylvania 17872 has filed a petition to modify the application of 30 CFR 1202 and 30 CFR 75.1202-1(a) (temporary notations, revisions, and supplements) to its Skidmore Slope (I.D. No. 36-09001) located in Columbia County, Pennsylvania. The petitioner proposes to revise and supplement mine maps annually instead of every 6 months as required, and to update maps daily by hand notations. The petitioner also proposes to conduct surveys prior to commencing retreat mining and whenever either a drilling program under 30 CFR 75.388 or plan for mining into inaccessible areas under 30 CFR 75.389 is required. The petitioner asserts that the proposed alternative method would provide at least the same measure of protection as the existing standard.

9. Centralia Mining

[Docket No. M-2001-117-C]

Centralia Mining, RD #2 Box 665, Shamokin, Pennsylvania 17872 has filed a petition to modify the application of 30 CFR 75.1400 (hoisting equipment; general) to its Skidmore Slope (I.D. No. 36-09001) located in Columbia County, Pennsylvania. The petitioner proposes to use a slope conveyance (gunboat) in transporting persons without installing safety catches or other no less effective devices but instead use increased rope strength and secondary safety rope connection in place of such devices. The petitioner asserts that the proposed alternative method would provide at least the same measure of protection as the existing standard.

10. Blue Diamond Coal Company

[Docket No. M-2001-118-C]

Blue Diamond Coal Company, P.O. Box 47, Slemp, Kentucky 41763-0047 has filed a petition to modify the application of 30 CFR 75.350 (air courses and belt haulage entries) to its Mine #77 (I.D. No. 15-09636) located in Perry County, Kentucky. The petitioner proposes to use air coursed through conveyor belt entries to ventilate working places. The petitioner proposes to install and maintain a carbon monoxide monitoring system as an early warning fire detection system in all belt entries used to course intake air to a working place. The petitioner asserts that the proposed alternative method would provide at least the same measure of protection as the existing standard.

11. BSE Mining, Inc.

[Docket No. M-2001-119-C]

BSE Mining, Inc., P.O. Box 267, Hager Hill, Kentucky 41222 has filed a petition to modify the application of 30 CFR 75.800 (high-voltage circuits; circuit breakers) to its No. 1 Mine (I.D. No. 15-18343) located in Morgan County, Kentucky. The petitioner proposes to use a contactor on high-voltage systems instead of using circuit breakers. The petitioner asserts that the proposed alternative method would provide at least the same measure of protection as the existing standard.

12. White County Coal, LLC

[Docket No. M-2001-120-C]

White County Coal, LLC, 1343 County Road 1450E, Carmi, Illinois 62821 has filed a petition to modify the application of 30 CFR 75.901 (protection of low- and medium-voltage three-phase circuits used underground) to its Pattiki II Mine (I.D. No. 11-03058) located in White County, Illinois. The petitioner proposes to use a 200KW, 480-volt, diesel powered generator set with an approved diesel drive engine to power electrical equipment that will only move equipment in, out, and around the mine and to perform work in areas outby section loading points where equipment is not required to be maintained as permissible. The petitioner asserts that the proposed alternative method would provide at least the same measure of protection as the existing standard.

13. New South Resources, d.b.a. Black Hawk Mining

[Docket No. M-2001-121-C]

New South Resources, d.b.a. Black Hawk Mining, P.O. Box 2594, Beckley, West Virginia 25802-2594 has filed a petition to modify the application of 30 CFR 75.1102 (slippage and sequence switches) to its Mine No. 1 (I.D. No. 46-08809) located in Raleigh County, West Virginia. The petitioner proposes to install and maintain an electrical switch that stops the belt when the coal in the bin reaches a predetermined level near the top of the bin. The petitioner states that activation of the electrical switch by the rising coal level will prevent coal from overflowing the bins and spilling or being carried back on the conveyor belt; and that the No. 2 Belt will stop until the bin begins to empty and the coal level drops below the predetermined level previously mentioned and the feeders which feed coal from the bins onto the No. 1 Belt are sequenced so that the feeders are stopped automatically whenever the No. 1 Belt stops operating. The petitioner asserts that the proposed alternative method would provide at least the same measure of protection as the existing standard.

Request for Comments

Persons interested in these petitions are encouraged to submit comments via e-mail to comments@msha.gov, or on a computer disk along with an original hard copy to the Office of Standards, Regulations, and Variances, Mine Safety and Health Administration, 4015 Wilson Boulevard, Room 627, Arlington, Virginia 22203. All comments must be postmarked or received in that office on or before January 30, 2002. Copies of these petitions are available for inspection at that address.

Dated at Arlington, Virginia, this 21st day of December, 2001.
David L. Meyer,
Director, Office of Standards, Regulations, and Variances.

[FR Doc. 01-32036 Filed 12-28-01; 8:45 am]

BILLING CODE 4510-43-P